DEPARTMENT OF DEFENSE

Department of the Army

Environmental Impact Statement for Modernization and Repair of Piers 2 and 3, Military Ocean Terminal Concord, CA

AGENCY: Department of the Army, DoD.

ACTION: Notice of Intent.

SUMMARY: The Department of the Army announces its intent to conduct public scoping under the National Environmental Policy Act to gather information to prepare an Environmental Impact Statement (EIS) related to the critically-needed modernization and repairs of Piers 2 and 3, Military Ocean Terminal Concord (MOTCO) due to structural decay caused by severe deterioration, wide-spread marine borer damage, and fungal decay. Piers 2 and 3 are used to transport military supplies in the Pacific region. There may be significant impacts to threatened and endangered species. The following other resource areas may be impacted: water quality, noise, terrestrial and marine species, and traffic. For example, the proposed action will replace a large number of piles; this work will likely result in water quality issues and an increase in noise. The Department of the Army will use the analysis in the EIS to determine whether and how to implement the proposed action.

ADDRESSES: Written comments should be forwarded to Mr. Malcolm Charles, Directorate of Public Works, Attention: SDAT-CCA-MI (Charles), 410 Norman Ave, Concord, CA 94520; email: usarmy.motco.sddc.mbx.list-eis@mail.mil or fax (925) 246-4171.

FOR FURTHER INFORMATION CONTACT: Please contact Mr. Malcolm Charles, Directorate of Public Works, 410 Norman Ave, Concord, CA 94520; fax (925) 246-4171; email: usarmy.motco.sddc.mbx.list-eis@mail.mil.

SUPPLEMENTARY INFORMATION: The decision to be made by the Army is whether and how to modernize and repair Piers 2 and 3 at the MOTCO. The EIS will assess the direct, indirect, and cumulative environmental impacts associated with various proposed facility modernization and repair options to meet safety, operational, facilities management, land use, and cultural resources management objectives.

Piers 2 and 3 at MOTCO need to be repaired and modernized in order to maintain ammunition out load capabilities at this ocean terminal. Pier 2 is the westernmost of three main wharves and is currently inoperable due to its poor condition. The pier requires major rehabilitation and modernization in order to restore its function and bring it to current containerization standards. The deterioration is due to a combination of marine borer, fungal decay, and overloading.

Pier 3 is currently the primary operational wharf at MOTCO. While it is in fair condition overall, it has localized areas of severe deterioration, wide-spread marine borer damage, and fungal decay. Consequently, work at the pier is subject to loading restrictions, and recent engineering assessments estimate that it has approximately five years of practical service life remaining.

The proposed action consists of the modernization and repair of the critically-needed piers. A range of reasonable alternatives, including a No Action Alternative, will be developed and analyzed in the EIS. Alternatives to be considered include (1) Fully implement repairs to Piers 2 and 3 with Pier 2 re-oriented to align/rotate the west end to meet a more modernized configuration, (2) fully implement repairs to Piers 2 and 3 leaving the Pier 2 footprint in its present location, and (3) fully implement repairs to Piers 2 and 3, reorienting Pier 2 to meet a more modernized configuration (same as in Alternative 1) but with a larger deck surface and heavier carrying capacity. Other reasonable alternatives raised during the scoping process and capable of meeting the project purpose and need and criteria will be considered for evaluation in the EIS.

Scoping and public comments: Federally recognized Tribes, federal, state, and local agencies, organizations, and the public are invited to be involved in the scoping process for the preparation of this EIS by participating in scoping meetings and/or submitting written comments. The scoping process will help identify possible alternatives, potential environmental impacts, and key issues of concern to be analyzed in the EIS. Written comments will be accepted within 60 days of publication of the NOI in the Federal Register. Scoping meetings will be held in Concord, CA. Notification of the times and locations for the scoping meetings will be locally published.

Brenda S. Bowen,
Army Federal Register Liaison Officer.

[FR Doc. 2013-07880 Filed 4-4-13; 8:45 am]

BILLING CODE 3710-08-P